DEPARTMENT OF ENERGY

Federal Energy Regulatory Commission

Combined Notice of Filings # 1

August 3, 2007.

Take notice that the Commission received the following electric corporate filings:

Docket Numbers: EC07-97-002.

Applicants: Ecofin Holdings Limited; Ecofin Limited; Ecofin, Inc.; Ecofin Fund Management Limited; Ecofin General Partner Limited; Ecofin North American General Partner Limited; Ecofin Water & Power Opportunities Plc; Ecofin Global Utilities Hedge Fund Limited; Ecofin Global Utilities Hedge Fund LP; Ecofin Global Utilities Master Fund Limited; Ecofin Special Situations Utilities Fund Ltd; Ecofin Special Situations Utilities Fund LP; Ecofin Special Situations Utilities Master Fund Ltd; Ecofin North American Utilities Hedge Fund Limited; Ecofin North American Utilities Hedge Fund, L.P.; Ecofin North American Utilities Master Fund Limited; HFR HE Ecofin Master Trust.

Description: Ecofin Holdings Limited et al. submit a further amendment to its Application filed on May 24, 2007.

Filed Date: July 31, 2007.

Accession Number: 20070802-0113.

Comment Date: 5 p.m. Eastern Time on Friday, August 10,

Docket Numbers: EC07-121-000.

Applicants: TNAI Holdings LLC; Thermal North America, Inc.; Trigenst Louis Energy Corp; Veolia Energy North America Holdings, Inc.

Description: TNAI Holdings LLC, Thermal North America Inc et al submit a joint application for authorization to transfer facilities under section 203 of the Federal Power Act.

Filed Date: July 31, 2007.

Accession Number: 20070802-0126.

Comment Date: 5 p.m. Eastern Time on Tuesday, August 21, 2007.

Take notice that the Commission received the following electric rate filings:

Docket Numbers: ER94-1188-042; ER99-1623-011; ER98-4545-011; ER98-1279-013.

Applicants: LG&E Energy Marketing Inc.; Louisville Gas & Electric Company; Kentucky Utilities Company; Western Kentucky Energy Corporation.

Description: Kentucky Utilities Company, et al. informs that parent company E. ON U.S. LLC has established a wholly-owned subsidiary E. ON U.S. Natural Gas Trading, Inc that will engage in financial & physical trading of natural gas etc.

Filed Date: August 1, 2007.

Accession Number: 20070801-5045.

Comment Date: 5 p.m. Eastern Time on Wednesday, August 22, 2007.

Docket Numbers: ER01-1363-008; ER96-25-030.

Applicants: Coral Energy Management, LLC Coral Power, L.L.C.

Description: Coral Power LLC and Coral Energy Management LLC submit a notice of change in status pursuant to the requirements of Order 652.

Filed Date: July 31, 2007.

Accession Number: 20070802-0107.

Comment Date: 5 p.m. Eastern Time on Tuesday, August 21, 2007.

Docket Numbers: ER02-237-008.

Applicants: J. Aron & Company.

Description: J Aron & Company submits notice of non-material change in status, in compliance with reporting requirements adopted in FERC's Order.

Filed Date: August 1, 2007.

Accession Number: 20070802-0202.

Comment Date: 5 p.m. Eastern Time on Wednesday, August 22, 2007.

Docket Numbers: ER03-793-003.

Applicants: New England Power Company.

Description: New England Power Co submits a revised service agreement with AES Londonderry, LLC.

Filed Date: August 1, 2007.

Accession Number: 20070802-0200.

Comment Date: 5 p.m. Eastern Time on Wednesday, August 22, 2007.

Docket Numbers: ER06-541-001.

Applicants: Old Lane Commodities, LP.

Description: Old Lane Commodities, LP's Notice of Non-Material Change in Status Regarding Market-Based Rate Authority.

Filed Date: July 31, 2007.

Accession Number: 20070731-5005.

Comment Date: 5 p.m. Eastern Time on Tuesday, August 21, 2007.

Docket Numbers: ER06-1014-003.

Applicants: New York Independent System Operator, Inc.

Description: New York Independent System Operator, Inc submits Price Validation Informational Report which details the corrections that NYISO has made to erroneous locational based marginal prices for the period January 1, 2007—June 30, 2007.

Filed Date: July 31, 2007.

Accession Number: 20070802-0112.

Comment Date: 5 p.m. Eastern Time on Tuesday, August 21, 2007.

Docket Numbers: ER07-424-003; ER06-456-012; ER06-954-008; ER06-1271-007

Applicants: PJM Interconnection, L.L.C.

Description: PJM Interconnection, LLC submits an amendment to the compliance filing made on May 21, 2007.

Filed Date: July 26, 2007.

Accession Number: 20070730-0360.

Comment Date: 5 p.m. Eastern Time on Thursday, August 16, 2007.

Docket Numbers: ER07-1162-001.

Applicants: Avista Corporation.

Description: Avista Corp submits an amendment of revised tariff sheets for its pending FERC Electric Tariff revised Volume 4.

Filed Date: July 31, 2007.

Accession Number: 20070802-0092.

Comment Date: 5 p.m. Eastern Time on Tuesday, August 21, 2007.

Docket Numbers: ER07-1216-000.

Applicants: Pacific Gas and Electric Company.

Description: Pacific Gas and Electric Co submits the Interconnection Agreement with PacifiCorp in accordance with section 205(d) of the Federal Power Act, 16 U.S.C.

Filed Date: July 31, 2007.

Accession Number: 20070802-0111.

Comment Date: 5 p.m. Eastern Time on Tuesday, August 21, 2007.

Docket Numbers: ER07-1217-000.

Applicants: Sunoco, Inc.

Description: Sunoco, Inc submits its proposed FERC Electric Tariff, Original Volume 1.

Filed Date: July 31, 2007.

Accession Number: 20070802-0093.

Comment Date: 5 p.m. Eastern Time on Tuesday, August 21, 2007.

Docket Numbers: ER07-1218-000.

Applicants: Southwest Power Pool, Inc.

Description: Southwest Power Pool, Inc submits an executed revised service agreement for Network Integration Transmission Service with Associated Electric Cooperative, Inc.

Filed Date: July 31, 2007.

Accession Number: 20070802-0104.

Comment Date: 5 p.m. Eastern Time on Tuesday, August 21, 2007.

Docket Numbers: ER07-1219-000.

Applicants: Southern Company Services, Inc.

Description: Southern Company Services, Inc, agent for Alabama Power Company et al submits an amended Southern Companies' Open Access Transmission Tariff, FERC Electric Tariff, Fourth Revised Volume 5.

Filed Date: July 31, 2007.

Accession Number: 20070802-0105.

Comment Date: 5 p.m. Eastern Time on Tuesday, August 21, 2007.

Docket Numbers: ER07-1220-000.

Applicants: Southwest Power Pool.

Description: Southwest Power Pool Inc submits an executed revised service agreement for Network Integration Transmission Service with Oklahoma Municipal Power Agency.

Filed Date: July 31, 2007.

Accession Number: 20070802-0106.

Comment Date: 5 p.m. Eastern Time on Tuesday, August 21, 2007.

Docket Numbers: ER07-1221-000.

Applicants: Rensselaer Cogeneration LLC

Description: Rensselaer Cogeneration LLC submits a Notice of Succession to reflect a name change on its market-based rate tariff from Rensselaer Plant Holdco LLC.

Filed Date: July 31, 2007.

Accession Number: 20070801-0135

Comment Date: 5 p.m. Eastern Time on Tuesday, August 21, 2007.

Docket Numbers: ER07-1222-000.

Applicants: CR Clearing, LLC

Description: CR Clearing LLC submits an application for market-based rate authority, certain waivers and blanket authorizations, to become effective August 30, 2007.

Filed Date: July 31, 2007.

Accession Number: 20070801-0134.

Comment Date: 5 p.m. Eastern Time on Tuesday, August 21, 2007.

Docket Numbers: ER07-1223-000.

Applicants: Cow Branch Wind Power, LLC.

Description: Cow Branch Wind Power LLC submits an application for market-rate authority, certain waivers and blanket authorization to become effective August 30, 2007.

Filed Date: July 31, 2007.

Accession Number: 20070801-0133.

Comment Date: 5 p.m. Eastern Time on Tuesday, August 21, 2007.

Docket Numbers: ER07-1224-000.

Applicants: Wabash Valley Power Association, Inc.

Description: Wabash Valley Power Association, Inc submits Distribution Agreement for Electric Service implementing Industrial Load Rate Schedule 1 pursuant to section 205 of the Federal Power Act.

Filed Date: August 10, 2007.

Accession Number: 20070801-0157.

Comment Date: 5 p.m. Eastern Time on Wednesday, August 22, 2007.

Docket Numbers: ER07-1225-000.

Applicants: ISO New England Inc.

Description: New England's Participating Transmission Owners submits supporting materials which identify updated rate for regional transmission & scheduling, system control & dispatch services effective as of June 1, 2007.

Filed Date: July 31, 2007.

Accession Number: 20070802-0203.

Comment Date: 5 p.m. Eastern Time on Tuesday, August 21, 2007.

Docket Numbers: ER07-1226-000.

Applicants: Southwest Power Pool, Inc.

Description: Southwest Power Pool, Inc submits revised pages to its Open Access Transmission Tariff intended to implement rate changes for Westar Energy, Inc and Oklahoma Gas & Electric.

Filed Date: July 31, 2007.

Accession Number: 20070801-0158.

Comment Date: 5 p.m. Eastern Time on Tuesday, August 21, 2007.

Docket Numbers: ER07-1228-000.

Applicants: California Independent System Operator Corporation

Description: California Independent System Operator Corp provides notice regarding the revised transmission access charges for eleven consecutive periods.

Filed Date: July 31, 2007.

Accession Number: 20070801-0159.

Comment Date: 5 p.m. Eastern Time on Tuesday, August 21, 2007.

Docket Numbers: ER07-1229-000.

Applicants: American Electric Power Service Corporation.

Description: American Electric Power Service Corporation agent for AEP Operating Companies submits Fourth Service Agreement 1252 and Local Delivery Agreement with the Blue Ridge Power Authority.

Filed Date: August 1, 2007.

Accession Number: 20070801-0160.

Comment Date: 5 p.m. Eastern Time on Wednesday, August 22, 2007.

Docket Numbers: ER07-1230-000.

Applicants: American Electric Power Service Corp.

Description: Ohio Power Co and Columbus Southern Power Co submits a Tenth Revised Interconnection and Local Delivery Service Agreement with Buckeye Power, Inc.

Filed Date: August 1, 2007.

Accession Number: 20070802-0024.

Comment Date: 5 p.m. Eastern Time on Wednesday, August 22, 2007.

Docket Numbers: ER07-1231-000.

Applicants: MidAmerican Energy Company.

Description: MidAmerican Energy Company submits supplements to their July 13, 2007 filing and submits pro forma Second Revised Sheet 137 and 140 of the Open Access Transmission Tariff.

Filed Date: August 1, 2007.

Accession Number: 20070802-0023.

Comment Date: 5 p.m. Eastern Time on Wednesday, August 22, 2007.

Docket Numbers: ER07-1232-000.

Applicants: UniSource Energy Development Company.

Description: UniSource Energy Development Co submits a market-based rate tariff for the sale of electric energy and capacity designated as FERC Electric Tariff, Original Volume 1.

Filed Date: August 1, 2007.

Accession Number: 20070802-0201.

Comment Date: 5 p.m. Eastern Time on Wednesday, August 22, 2007.

Docket Numbers: ER07-1233-000; OA07-56-001.

Applicants: Midwest Independent Transmission System Operator Inc.

Description: Midwest Independent Transmission System Operator Inc. submits information in support of continuing zonal transmission rates for existing facilities in the Midwest ISO footprint under its Open Access Transmission.

Filed Date: August 1, 2007.

Accession Number: 20070802-0225.

Comment Date: 5 p.m. Eastern Time on Wednesday, August 22, 2007.

Take notice that the Commission received the following electric securities filings:

Docket Numbers: ES07-51-000.

Applicants: Mississippi Power Company.

Description: Form 523—Request for Permission to Issue Securities of Mississippi Power Company.

Filed Date: July 31, 2007.

Accession Number: 20070731-5013.

Comment Date: 5 p.m. Eastern Time on Tuesday, August 21, 2007.

Docket Numbers: ES07-52-000.

Applicants: Northern Indiana Public Service Company.

Description: Form 523—Request for Permission to Issue Short-Term Debt of Northern Indiana Public Service Company.

Filed Date: July 31, 2007.

Accession Number: 20070731-5037.

Comment Date: 5 p.m. Eastern Time on Tuesday, August 21, 2007.

Docket Numbers: ES07-53-000.

Applicants: Entergy Services, Inc.

Description: Joint Application Requesting Recession of Certain Section 204 Authorization of Entergy Services, Inc.

Filed Date: July 31, 2007.

Accession Number: 20070731-5068.

Comment Date: 5 p.m. Eastern Time on Tuesday, August 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-15530 Filed 8-8-07; 8:45 am]

BILLING CODE 6717-01-P